DEPARTMENT OF ENERGY

International Energy Agency Meetings

AGENCY: Department of Energy.

ACTION: Notice of Meetings.

SUMMARY: A meeting involving members of the Industry Advisory Board (IAB) to the International Energy Agency (IEA) in connection with the IEA's Workshop on Public Stock Release will be held on June 23, 2009, at the headquarters of the IEA in Paris, France. A meeting of the IAB will be held at the IEA's headquarters on June 24, 2009, in connection with a meeting of the IEA's Standing Group on Emergency Questions (SEQ).

DATES: June 23-24, 2009.

ADDRESSES: 9, rue de la Fédération, Paris, France.

FOR FURTHER INFORMATION CONTACT: Diana D. Clark, Assistant General for International and National Security Programs, Department of Energy, 1000 Independence Avenue, SW., Washington, DC 20585, 202-586-3417.

SUPPLEMENTARY INFORMATION: In accordance with section 252(c)(1)(A)(i) of the Energy Policy and Conservation Act (42 U.S.C. 6272(c)(1)(A)(i)) (EPCA), the following notice of meeting is provided:

A meeting involving members of the Industry Advisory Board (IAB) in connection with the IEA's Workshop on Public Stock Release will be held at the headquarters of the IEA, 9, rue de la Fédération, Paris, France, on June 23, 2009, beginning at 10 a.m. The purpose of the meeting is to share information and experience between IEA member countries in order to improve public oil stock release mechanisms and ensure that proposed stocks are taken up by the market. A meeting of the IAB will be held at the headquarters of the IEA on June 24, 2009, commencing at 9:30 a.m. The purpose of this notice is to permit attendance by representatives of U.S. company members of the IAB at a meeting of the IEA's Standing Group on Emergency Questions (SEQ), which is scheduled to be held at the same location and time. The IAB will also hold a preparatory meeting among company representatives at the same location at 8:30 a.m. on June 24. The agenda for this preparatory meeting is to review the agenda for the SEQ meeting and to discuss the June 23 IEA Workshop on Public Stock Release.

The agenda of the SEQ meeting is under the control of the SEQ. It is expected that the SEQ will adopt the following agenda:

1. Adoption of the Agenda.

2. Approval of the Summary Record of the 126th Meeting.

3. Status of Compliance with IEP Stockholding Commitments.

4. Update on the Oil Market.

5. Emergency Response Exercise:

—Initial Results from the Workshop on Public Stock Release, June 23, 2009.

6. Emergency Response Review Program:

—Emergency Response Review of Belgium;

—Schedule of Emergency Response Reviews.

7. Policy and Other Developments in Member Countries:

—Australia;

—United States.

8. Activities with International Organizations and Non-Member Countries:

—Update on the EU Directive on Emergency Oil Stocks;

—Report on the Emergency Response Exercises in Thailand, May 18-19, 2009:

—Report on the IEA/HANDA/EC Workshop on Establishment of Emergency Oil Stocks in Southeast Europe, May 28-29, 2009, Croatia.

9. Update on the Natural Gas Market.

10. Emergency Policy for Natural Gas:

—Natural Gas Security.

11. Report from the Industry Advisory Board.

12. Documents for Information:

—Emergency Reserve Situation of IEA Member Countries on April 1, 2009;

—Base Period Final Consumption: 2Q 2008-1Q 2009;

—Monthly Oil Statistics: March 2009;

—Emergency Contacts List.

13. Other Business:

—Tentative Schedule of Meetings:

—October 20-21, 2009;

—March 23-25, 2010;

—June 29-30 and July 1, 2010;

—November 16-18, 2010.

As provided in section 252(c)(1)(A)(ii) of the Energy Policy and Conservation Act (42 U.S.C. 6272(c)(1)(A)(ii)), the meetings of the IAB are open to representatives of members of the IAB and their counsel; representatives of members of the IEA's Standing Group on Emergency Questions; representatives of the Departments of Energy, Justice, and State, the Federal Trade Commission, the Government Accountability Office, Committees of Congress, the IEA, and the European Commission; and invitees of the IAB, the SEQ, or the IEA.

Issued in Washington, DC, June 10, 2009.
Diana D. Clark,
Assistant General Counsel for International and National Security Programs.

[FR Doc. E9-14234 Filed 6-16-09; 8:45 am]

BILLING CODE 6450-01-P